DEPARTMENT OF THE INTERIOR

Office of the Secretary

[DR5A311IA000113]

Secretarial Commission on Indian Trust Administration and Reform

AGENCY: Office of the Secretary, Interior.

ACTION: Notice of meeting.

SUMMARY: The Office of the Secretary is announcing that the Secretarial Commission on Indian Trust Administration and Reform (the Commission) will hold a public meeting on August 19, 2013. During the public meeting, the Commission will: attend to operational activities of the Commission; gain insights and knowledge from invited speakers and attendees about the trust relationship, other trust models, and trust reform, and aspects of trust that are unique to Alaska; review Commission action items; and gain insights and perspectives from members of the public.

DATES: The Commission's public meeting will begin at 8:30 a.m. and end at 1 p.m. Alaska Daylight Time on August 19, 2013. Members of the public who wish to attend in person should RSVP by August 16, 2013, to: trustcommission@ios.doi.gov to ensure adequate meeting packets will be made available. Members of the public who wish to participate via teleconference and Webinar should register at https://www1.gotomeeting.com/register/358286632 by August 16, 2013, and instructions on how to join the meeting will be sent to your email address. Teleconference/Webinar participation is limited to 100 participants.

ADDRESSES: The public meeting will be held at the Sheraton Anchorage Hotel & Spa, Kuskokwim Ballroom, 401 E. 6th Avenue, Anchorage, Alaska 99501. We encourage you to RSVP to trustcommission@ios.doi.gov by August 16, 2013.

FOR FURTHER INFORMATION CONTACT: The Designated Federal Official, Sarah Harris, Chief of Staff to the Assistant Secretary-Indian Affairs, Department of the Interior, 1849 C Street NW., Room 4141, Washington, DC 20240; or email to Sarah.Harris@bia.gov.

SUPPLEMENTARY INFORMATION:

Background

The Secretarial Commission on Indian Trust Administration and Reform was established under Secretarial Order No. 3292, dated December 8, 2009. The Commission plays a key role in the Department's ongoing efforts to empower Indian nations and strengthen nation-to-nation relationships.

The Commission will complete a comprehensive evaluation of the Department's management and administration of the trust assets within a two-year period and offer recommendations to the Secretary of the Interior of how to improve in the future. The Commission will:

(1) Conduct a comprehensive evaluation of the Department's management and administration of the trust administration system;

(2) Review the Department's provision of services to trust beneficiaries;

(3) Review input from the public, interested parties, and trust beneficiaries which should involve conducting a number of regional listening sessions;

(4) Consider the nature and scope of necessary audits of the Department's trust administration system;

(5) Recommend options to the Secretary to improve the Department's management and administration of the trust administration system based on information obtained from these Commission's activities, including whether any legislative or regulatory changes are necessary to permanently implement such improvements; and

(6) Consider the provisions of the American Indian Trust Fund Management Reform Act of 1994 providing for the termination of the Office of the Special Trustee for American Indians, and make recommendations to the Secretary regarding any such termination.

Comprehensive Evaluation

The Commission's purpose is to provide a thorough evaluation of the existing Indian trust management and Trust Administration System to support a reasoned and factually based set of options for potential management improvements. Grant Thornton LLP in partnership with Cherokee Services Group has been awarded a contract to perform a comprehensive evaluation of the Department's management of the Trust Administration System in support of the Commission's efforts.

The management consultant will be attending the upcoming Indian Trust Commission's meeting in Anchorage and will be available to speak with if you wish to provide input and recommendations. The Commission encourages individuals to take the opportunity to provide Grant Thornton with your perspective on how the trust administration system currently operates. To contact Grant Thornton directly, you may send an email to Trust.Commission@us.gt.com.

Public Meeting Details

On Monday, August 19, 2013, the Commission will hold a meeting open to the public. The following items will be on the agenda:

Monday, August 19, 2013

• Invocation;

• Welcome, introductions, agenda review;

• Remarks from Sarah Harris, Designated Federal Official;

• Commission Operations Reports and Decision Making

• Insights and lessons learned regarding trust responsibility, Alaska Native Claims Settlement Act (ANSCA) and the role of tribes going forward;

• Panel session regarding trust land and trust responsibility in Alaska;

• Review of draft recommendations of Commission and public comment;

• Review action items, meeting accomplishments; and

• Closing blessing, adjourn.

Written comments may be sent to the Designated Federal Official listed in the FOR FURTHER INFORMATION CONTACT section above. All meetings are open to the public; however, transportation, lodging, and meals are the responsibility of the participating public. To review all related material on the Commission's work, please refer to http://www.doi.gov/cobell/commission/index.cfm.

Dated: July 25, 2013.
Kevin K. Washburn,
Assistant Secretary—Indian Affairs.

[FR Doc. 2013-18526 Filed 7-31-13; 8:45 am]

BILLING CODE 4310-W7-P